DEPARTMENT OF THE INTERIOR

Fish and Wildlife Service

Notice of Availability of the Final Comprehensive Conservation Plan and Environmental Impact Statement for Maine Coastal Islands National Wildlife Refuge

AGENCY: U.S. Fish and Wildlife Service, Department of the Interior.

ACTION: Notice of availability of the Final Comprehensive Conservation Plan and Environmental Impact Statement for Maine Coastal Islands National Wildlife Refuge (NWR)(formerly Petit Manan National Wildlife Refuge Complex).

SUMMARY: The U.S. Fish and Wildlife Service (Service) announces that the Final Comprehensive Conservation Plan (CCP) and Environmental Impact Statement (EIS) for Maine Coastal Islands National Wildlife Refuge (NWR) are available for review. The Final CCP and EIS were prepared pursuant to the National Wildlife Refuge System Administration Act of 1966, as amended by the National Wildlife Refuge System Improvement Act of 1997 (16 U.S.C. 6688dd et seq.), and the National Environmental Policy Act of 1969. The CCP describes how the Service intends to manage the refuge over the next 15 years.

DATES: A Record of Decision may be signed no sooner than 30 days after publication of this notice (40 CFR 1506.10(b)(2)).

ADDRESSES: Copies of the Final CCP or EIS, including Appendix I (Summary of Public Comments and Service Responses), are available by contacting Charles Blair, Refuge Manager, Maine Coastal Islands NWR, P.O. Box 279, Water Street, Milbridge, Maine 04658-0279, or by e-mailing petitmanan@fws.gov. The Final CCP and EIS are also available for viewing and downloading online at the following Web site: http://library.fws.gov/ccps.htm.

FOR FURTHER INFORMATION CONTACT: Charles Blair, Refuge Manager, at the above street and e-mail address, or via telephone at (207) 546-2124, or fax at (207) 546-7805.

SUPPLEMENTARY INFORMATION: The National Wildlife Refuge System Administration Act of 1966, as amended by the National Wildlife Refuge System Improvement Act of 1997, requires the Service to develop a CCP for each refuge. The purpose of developing a CCP is to provide refuge managers with a 15-year strategy for achieving refuge purposes and contributing toward the mission of the National Wildlife Refuge System, consistent with sound principles of fish and wildlife science, natural resources conservation, legal mandates, and Service policies. In addition to outlining broad management direction on conserving wildlife and habitats, a CCP identifies wildlife-dependent recreational opportunities available to the public, including opportunities for hunting, fishing, wildlife observation and photography, and environmental education and interpretation. The CCP will be reviewed and updated at least every 15 years in accordance with the National Wildlife Refuge System Improvement Act of 1997, and the National Environmental Policy Act of 1969.

The Maine Coastal Islands NWR is located within the Gulf of Maine, with landholdings along the entire Maine coast. The refuge is a complex of five individual refuge units including: Petit Manan, Cross Island, Seal Island, Franklin Island, and Pond Island NWRs. It protects nationally-significant islands with nesting habitat for Federal- and State-listed species, and other native wildlife of high conservation concern, such as roseate tern, bald eagle, Atlantic puffin, common tern, Arctic tern, and razorbills. Its mainland divisions protect wetlands and other important habitats valuable to migratory birds of conservation concern, including waterfowl, shorebirds, and Neotropical landbirds.

The proposed action is to adopt and implement a CCP that best achieves the purposes for which the refuge was established; furthers its vision and goals; contributes to the mission of the National Wildlife Refuge System; addresses significant issues and applicable mandates; and is consistent with principals of sound fish and wildlife management. Implementing the CCP will enable the refuge to fulfill its critical role in the conservation and management of fish and wildlife resources in the Gulf of Maine, including the protection of nationally-significant coastal islands, and to provide high quality environmental education and wildlife-dependent recreational opportunities for refuge visitors. The Service analyzed four alternatives for future management of the refuge; of these, Alternative B has been identified as the Service's preferred alternative.

Alternative B, modified from the Draft CCP/EIS, would provide a refuge boundary expansion and improve the diversity and depth of management for natural resources and recreational opportunities. Selecting this alternative would expand the Petit Manan NWR by 2,459.7 acres beyond the current approved boundary. The expansion is comprised of 87 nationally significant seabird, wading bird, or bald eagle coastal nesting islands (2,306.4 acres) and 2 mainland tracts (153.3 acres) of wetlands important for waterfowl and migrating shorebirds. Alternative B would add six new seabird restoration projects to our present six, and intensify the focus of our biological programs on birds of high conservation priority in the Gulf of Maine. It would increase opportunities for wildlife-dependent recreation, especially in our environmental education and interpretation programs, build new trails on the Gouldsboro Bay, Sawyers Marsh, and Corea Heath divisions, and open the Petit Manan Point Division for deer hunting. Alternative B would also recommend that 13 NWR islands in 8 wilderness study areas be included in the National Wilderness Preservation System. Refuge staffing and budgets would increase commensurately with expanded programs. We recommend Alternative B for approval. The following are four important changes made between our Draft and Final CCP and EIS:

1. We propose changing the name of the entire refuge complex to “Maine Coastal Islands National Wildlife Refuge”. We will use this name for outreach and administrative purposes when we are referring to the five refuges collectively. It does not change the name or status of the five individual refuge units.

2. We clarify our deer hunting proposal on the Petit Manan Point Division because the Draft CCP/EIS did not stipulate which areas or seasons would be opened. We propose opening the deer hunt to: (a) hunters with disabilities during the regular rifle season, and (b) hunters of all abilities during the regular muzzle-loader season. The hunting area will lie in the northern half of the division, above the entrance road, in the Birch Point Trail area.

3. We propose changing the wilderness study area (WSA) boundaries to exclude all private lands and all existing rights-of-way granted to private inholders on Cross and Bois Bubert islands, and Lily Lake and the common boat landing on Bois Bubert Island. All WSA boundaries will be defined by the mean high water mark surrounding the islands. (Appendix D, “Wilderness Inventory and Study”, includes those changes).

4. We propose to exclude an 8-acre tract on Wood Island from our expansion proposal. The tract is owned by the Coast Guard and includes an historic lighthouse. The Coast Guard requested we exclude this tract, which is under a licensing agreement with the American Lighthouse Foundation for repair, maintenance, and historic preservation. (Appendix A, “Land Protection Plan”, includes this change).

Public comments were requested, considered and incorporated throughout the planning process in numerous ways. Public outreach has included open houses, public meetings, technical workgroups, planning update mailings, and Federal Register notices. Three previous notices were published in the Federal Register concerning the development of this CCP/EIS (60 FR 52008, October 4, 1995; 64 FR 70723, December 17, 1999; 69 FR 23803, April 30, 2005). During the Draft CCP/EIS comment period that occurred from April 30 to July 6, 2004, the Service received 594 public responses in oral testimony at public hearings, in phone calls, or in written or electronic documents. All substantive issues raised in the comments on the Draft CCP/EIS have been addressed through changes incorporated into the Final CCP and EIS text, and through the responses to the public comments included in Appendix I, “Summary of Public Comments and Service Responses,” of the Final EIS.

Dated: March 7, 2005.
Richard O. Bennett,
Acting Regional Director, U.S. Fish and Wildlife Service, Hadley, Massachusetts.

[FR Doc. 05-13615 Filed 7-14-05; 8:45 am]

BILLING CODE 4310-55-P